OFFICE OF MANAGEMENT AND BUDGET

Public Availability of Year 2001 Agency Inventories Under the Federal Activities Inventory Reform Act of 1998 (Public Law 105-270) (“FAIR Act”)

AGENCY: Office of Management and Budget, Executive Office of the President.

ACTION: Notice of public availability of agency Inventory of Activities That Are Not Inherently Governmental.

SUMMARY: The Department of Defense inventory of activities that are not Inherently Governmental is now available to the public, in accordance with the “Federal Activities Inventory Reform Act of 1998” (Public Law 105-270) (“FAIR Act”). This is the fourth and final release of the 2001 FAIR Act inventories. The Office of Federal Procurement Policy has also made available a summary FAIR Act User's Guide through its Internet site: http://www.whitehouse.gov/OMB/procurement/index.html. This User's Guide will help interested parties review 2001 FAIR Act inventories, and will also include the web-site addresses to access agency inventories.

The FAIR Act requires that OMB publish an announcement of public availability of agency Inventories of Activities that are not Inherently Governmental upon completion of OMB's review and consultation process concerning the content of the agencies' inventory submissions. OMB has now completed this process for the year 2001.

Those interested in reviewing the Department of Defense year 2001 FAIR Act inventory may contact the Department's FAIR Act hotline at (703) 824-2692 or may access the inventory through the website address at: http://web.lmi.org/fairnet/.

The Department of Defense mail service, post September 11, 2001, has experienced significant delays due to new security requirements. Therefore, interested parties are encouraged to use the FAX to submit challenges and appeals regarding the content of the inventory, as provided for by the FAIR Act. The FAX number for each Departmental component (Army, Navy, Air Force, Marines, etc) is provided on the above website.

Mitchell E. Daniels, Jr.,
Director.

[FR Doc. 02-8992 Filed 4-12-02; 8:45 am]

BILLING CODE 3110-01-P